SECURITIES AND EXCHANGE COMMISSION

Sunshine Act Meetings

TIME AND DATE: Notice is hereby given, pursuant to the provisions of the Government in the Sunshine Act, Public Law 94-409, that the Securities and Exchange Commission Small Business Capital Formation Advisory Committee will hold a public meeting on Tuesday August 13, 2019, at 9:30 a.m. (CT)

PLACE: The meeting will be held at Creighton University, in The President's Fitzgerald Boardroom on the fourth floor of the Mike and Josie Harper Center, located at 602 North 20th Street, Omaha, Nebraska 68178.

STATUS: The meeting will be open to the public. Seating will be on a first-come, first-served basis. The meeting will be webcast on the Commission's website at www.sec.gov.

MATTERS TO BE CONSIDERED: On July 9, 2019, the Commission issued a press release indicating where the meeting would be held and that it would open to the public. On August 2, 2019, the Commission published notice of the Committee meeting (Release No. 33-10666), indicating that the meeting is open to the public and inviting the public to submit written comments to the Committee. This Sunshine Act notice is being issued because a majority of the Commission may attend the meeting.

The agenda for the meeting includes matters relating to rules and regulations affecting small and emerging companies under the federal securities laws.

CONTACT PERSON FOR MORE INFORMATION: For further information, please contact Vanessa A. Countryman from the Office of the Secretary at (202) 551-5400.

Dated: August 6, 2019.
Vanessa A. Countryman,
Secretary.

[FR Doc. 2019-17103 Filed 8-6-19; 4:15 pm]

BILLING CODE 8011-01-P